DEPARTMENT OF THE TREASURY

Internal Revenue Service

Open Meeting of the Taxpayer Advocacy Panel Joint Committee

AGENCY: Internal Revenue Service (IRS), Treasury.

ACTION: Notice of change of meeting date.

SUMMARY: In the Federal Register notice that was originally published on December 28, 2015, (Volume 80, Number 248, Page 80881), the meeting date is now changed. The new date for the meeting is, Wednesday, March 30, 2016.

DATES: The meeting will be held Wednesday, March 30, 2016.

FOR FURTHER INFORMATION CONTACT: Kim Vinci at 1-888-912-1227 or 916-974-5086.

SUPPLEMENTARY INFORMATION: Notice is hereby given pursuant to Section 10(a)(2) of the Federal Advisory Committee Act, 5 U.S.C. App. (1988) that an open meeting of the Taxpayer Advocacy Panel Joint Committee will be held Wednesday, March 30, 2016, at 1:00 p.m. Eastern Time via teleconference. The public is invited to make oral comments or submit written statements for consideration. For more information please contact: Kim Vinci at 1-888-912-1227 or 916-974-5086, TAP Office, 4330 Watt Ave, Sacramento, CA 95821, or contact us at the Web site: http://www.improveirs.org.

The agenda will include various committee issues for submission to the IRS and other TAP related topics. Public input is welcomed.

Dated: January 7, 2016.
Antoinette Ross,
Acting Director, Taxpayer Advocacy Panel.

[FR Doc. 2016-00565 Filed 1-13-16; 8:45 am]

BILLING CODE 4830-01-P